DEPARTMENT OF ENERGY

Federal Energy Regulatory Commission

Notice of Application To Amend the Project Boundaries and Soliciting Comments, Motions To Intervene, and Protests

November 17, 2003.

Take notice that the following hydroelectric application has been filed with the Commission and is available for public inspection.

a. Type of Application: Amendment of license to change project boundary.

b. Project No.: 2674-014.

c. Date Filed: October 21, 2003, supplement filed November 12, 2003.

d. Applicant: Green Mountain Power Corporation (GMP).

e. Name of Project: Vergennes Hydroelectric Project.

f. Location: The Vergennes Hydroelectric Project is located on Otter Creek in the City of Vergennes, Addison County, Vermont.

g. Filed Pursuant to: Federal Power Act 16 U.S.C. 791a-825r.

h. Applicant Contact: Ms. Harriet King, King & King, PO Box 879 Prentis House, 4219 Main Street, Waitsfield, Vermont 05673, telephone (802) 496-4371 or Mr. Jon Soter, P.E., Manager of Corporate Services, Green Mountain Power Corporation, 163 Acorn Lane, Colchester, VT, 05446, telephone (802) 864-5731.

i. FERC Contact: Robert Shaffer, telephone (202) 502-8944, e-mail Robert. Shaffer@ferc.gov.

j. Deadline for filing comments and or motions: December 19, 2003.

k. Description of Request: The licensee proposes to amend the project's boundary due to the proposed sale of about 1.9 acres of land, which consist of: (1) The Grist Mill Island (about 0.5 acres); and (2) two parcels of land, one is located on the easterly side of Canal Street (0.2 acres) and the other on the west side of Canal Street (1.2 acres). The land proposed for sale contains buildings listed on the National Register and is located within the Vergennes Historic District. The licensee states that the subject buildings are currently vacant and none is used in connection with the operation of the project.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. All documents (original and eight copies) should be filed with: Magalie R. Salas, Secretary, Federal Energy Regulatory Commission, 888 First Street, NE., Washington DC 20426. A copy of any motion to intervene must also be served upon each representative of the Applicant specified in the particular application.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E3-00357 Filed 11-21-03; 8:45 am]

BILLING CODE 6717-01-P